DEPARTMENT OF HOUSING AND URBAN DEVELOPMENT

[Docket No. FR-5604-N-17]

Notice of Proposed Information; Collection for Public Comment; Continuum of Care Program Application—Technical Submission

AGENCY: Office of the Assistant Secretary for Community Planning and Development, HUD.

ACTION: Notice of proposed information collection.

SUMMARY: The proposed information collection requirement described below will be submitted to the Office of Management and Budget (OMB) for review, as required by the Paperwork Reduction Act. The Department is soliciting public comments on the subject proposal.

DATES: Comments Due Date: February 26, 2013.

ADDRESSES: Interested persons are invited to submit comments regarding this proposal. Comments should refer to the proposal by name/or OMB Control number and should be sent to: Colette Pollard, Departmental Reports Management Officer, QDAM, Department of Housing and Urban Development, 451 7th Street SW., Room 4160, Washington, DC 20410-5000; telephone (202) 402-3400, (this is not a toll-free number) or email Ms. Pollard at Colette_Pollard@hud.gov for a copy of proposed forms, or other available information. Persons with hearing or speech impairments may access this number through TTY by calling the toll-free Federal Information Relay Service at (800) 877-8339.

FOR FURTHER INFORMATION CONTACT: Ann Marie Oliva, Director, Office of Special Needs Assistance Programs, Office of Community Planning and Development, Department of Housing and Urban Development, 451 7th Street SW., Room 7262, Washington, DC 20410; telephone (202) 708-1590 (This is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Continuum of Care Program Application—Technical Submission.

Description of the need for the information proposed: This submission is to request a reinstatement with revisions of an expired information collection for reporting burden associated with the Technical Submission phase of the Continuum of Care (CoC) Program Application. This submission is limited to the Technical Submission process under the CoC Program interim rule, formerly under the Supportive Housing Program and the Shelter Plus Care Program and changed to match the new program name created through the HEARTH Act.

Applicants who are successful in the Continuum of Care Program Homeless Assistance Grant competition are required to submit more detailed technical information before grant agreement. The information to be collected will be used to ensure that technical requirements are met prior to the execution of a grant agreement. The technical requirements relate to a more extensive description of the budgets for supportive services and operations, as well as acquisition, rehabilitation, new construction, rental assistance, leasing, and sources of financing documentation. HUD will use this detailed information to determine if a project is financially feasible and whether all proposed activities are eligible.

All information collected is used to carefully consider conditional applicants for funding. If HUD collects less information, or collected it less frequently, the Department could not make a final determination concerning the eligibility of applicants for grant funds and conditional applicants would not be eligible to sign grant agreements and receive funding. To see the regulations for the new CoC Program and applicable supplementary documents, visit HUD's Homeless Resource Exchange CoC page at http://www.hudhre.info/coc/. The statutory provisions and the implementing interim rule (also found at 24 CFR part 587) that govern the program require the information provided by the Technical Submission.

Agency Form Numbers: HUD-40090-3a, HUD-40090-3b.

Members of the affected public: Conditional recipients of new CoC Program grant awards, including nonprofit organizations, local and state governments.

Estimation of the total number of hours needed to prepare the information collection including number of respondents, frequency of response, and hours of response: Once a project is conditionally awarded, all applicants with new projects must complete the appropriate Technical Submission forms in e-snaps to receive funding. Each type of project will require a unique set of forms to meet compliance, and so the estimates below represent an average of applicants that have several forms to complete. We are anticipating a maximum of 750 responses this year, with each respondent completing only 1 technical submission at 8 hours per response for a total of 6,000 hours. While much of the content remains the same as in the previous collection, we have estimated that the move to an electronic collection will save a minimum average of 1 hour per response, for a total savings of 750 hours.

Status of proposed information collection: Reinstatement, with change, of previously approved collection for which approval has expired.

Authority: Section 3506 of the Paperwork Reduction Act of 1995, 44 U.S.C. Chapter 35, as amended.

Dated: December 20, 2012.
Mark Johnston,
Deputy Assistant Secretary for Special Needs Programs.

[FR Doc. 2012-31184 Filed 12-27-12; 8:45 am]

BILLING CODE 4210-67-P